Proclamation 9298 of July 10, 2015

Establishment of the Berryessa Snow Mountain National Monument

By the President of the United States of America

A Proclamation

The Berryessa Snow Mountain area is the heart of northern California's wild Inner Coast Range. Once covered by ocean waters, it is a landscape shaped by geologic forces of staggering power overlain with bountiful but fragile biodiversity. Anchored in the north by Snow Mountain's remote forests and in the south by scenic Berryessa Mountain, this area stretches through unbroken wildlands and important wildlife corridors, a mosaic of native grasslands, picturesque oak woodlands, rare wetlands, and wild chaparral.

Home to the headwaters of the Eel River, and the Stony, Cache, and Putah creeks, Berryessa's waters are a crucial element of this landscape and a vital link to the water supply for millions of people. This dramatic and diverse landscape is a biological hotspot providing refuge for rare plant and animal species and showcasing the human history of north-central California.

Native Americans have inhabited these lands for at least the last 11,000 years. Many tribes, including the Yuki, Nomlaki, Patwin, Pomo, Huchnom, Wappo, and Lake Miwok, and Wintum all played a role in the history of this region, one of the most linguistically diverse in California.

The region's abundant natural resources helped to shape these distinct cultures. Early inhabitants subsisted upon protein-rich acorns in addition to seed and nut crops cultivated through traditional burning practices. Obsidian, chert, and basalt provided important source material for tool production, such as flaked tools and projectile points. The inhabitants also processed and produced both shell and magnesite beads, which they traded with other tribes.

Dense with cultural resources, the Berryessa Snow Mountain area contains a range of ancient settlements from mineral collection sites, and seasonal hunting and gathering camps in the high country, to major villages with subterranean, earth-covered round buildings in the lowlands. In addition to trade routes winding through the hills and mountains, the area is rich with sites that tell the story of early Native peoples: chert quarries where stone was gathered to make tools, task sites where tools were re-sharpened during hunting excursions, food sites where acorn and seeds were ground on large grindstones, and areas with pitted boulder petroglyphs where individuals illustrated their life experiences. The Cache Creek Archeological District, designated on the National Register of Historic Places, illustrates the area's archeological importance.

In the early 19th century, both Spanish and Mexican expeditions explored the region, as did fur trappers for the Hudson Bay Company. These explorers and trappers were often just brief visitors to this landscape, but their explorations and documentation opened the region to further European-American settlement by providing information about conditions, resources, and geography. This later settlement began during the 1840s gold rush. Farming in the region was limited due to the difficult terrain and soils, while cattle and sheep ranching were much more profitable.

From the mid to late 1800s, many small sawmills operated within the forests of the area. The restored 1860s-era Nye homestead cabin, the historic Prather Mill, and remnants of associated railroad logging operations are tangible reminders of these historic uses. Around the turn of the 20th century, the mineral-laden waters and hot springs of the area attracted visitors to resorts and spas advertising their therapeutic benefits. Remains of the foundations of the mineral spring resorts at Bartlett Springs can be spotted by observant visitors today.

Native populations were displaced by the European-American settlement and development of the region in the early to mid-1800s. Many traditional hunting and gathering grounds were converted to grazing and logging and new diseases brought into the area spread to the Native people, greatly impacting the local Native populations and pushing them off of their homelands. Nevertheless, the region's landscape and resources retain deep cultural significance for modern Native communities, including roughly two dozen federally recognized tribes.

The Berryessa Snow Mountain area tells a dynamic geologic story. A relic of ancient times, scientists theorize that Snow Mountain formed as an underwater mountain during the Jurassic Period, 145-199 million years ago. Much of the region is prone to landslides due to weak and pervasively fractured rock, resulting in a diverse topography, including sag ponds and springs, with important values for wildlife and plants. The seismically active Bartlett Springs fault zone has remarkable features including hot springs and geologic outliers with marine invertebrate fossils dating to the Cretaceous Period and Cenozoic Era. The area has two important tension-crack caves, likely also created by landslides. These are classified as significant under the Federal Cave Resources Protection Act of 1988 and provide habitat for the Townsend's big-eared bat.

Rising from near sea-level in the south to over 7,000 feet in the mountainous north, and stretching across 100 miles and dozens of ecosystems, the area's species richness is among the highest in California. This internationally recognized biodiversity hotspot is located at the juncture between California's Klamath, North Coast, and Sacramento Vallejo ecoregions and provides vital habitat and migration corridors for diverse wildlife, including several endemic plant and animal species.

The Berryessa Snow Mountain area is notable for its significant concentration of serpentine soils arising from frequent seismic activity and influence from ancient oceans. Serpentine, California's State rock, is formed from the clashing, subduction, and rising of massive geologic forces, and can be found in significant quantity in the area. These soils lack the nutrients most plants need and often contain heavy metals toxic to many plants, resulting in plants that are unique and endemic to this region. Serpentine outcrops in the area have been the subject of a great deal of botanical, ecological, and evolutionary research, and hold promise for future scientific explorations. Many serpentine plants are listed as rare, sensitive, or threatened under Federal or State law. Examples are: the endemic bent-flowered fiddleneck and brittlescale, the Brewer's jewelflower, Purdy's fringed onion, musk brush, serpentine sunflower, bare monkeyflower, Indian Valley brodiaea, Red Mountain catchfly, and Snow Mountain buckwheat, along with numerous other herbs such as the Lake County stonecrop, coastal bluff morning glory, Cobb Mountain lupine, Contra Costa goldfields, and Napa western flax. There are also plant species that are near-endemics and almost entirely restricted to serpentine soils, such as MacNab cypress, leather oak, swamp larkspur, and Purdy's fritillary.

The Berryessa Snow Mountain area is replete with wild and unique landscapes and climatic micro-regions. These include Cedar Roughs, an important refuge for black bear and a 3,000-acre stand of endemic Sargent's cypress trees. Cache Creek, a California Wild and Scenic River, provides an exceptional, intact riparian habitat and one of the largest wintering populations of bald eagles in the State. Remnants of the grassland prairies that once covered much of interior California still exist at Upper Cache Creek, where there are stands of native grasses with creeping wild rye and meadow barley, and some smaller relict patches of upland bunchgrass.

The 6,000-foot Goat Mountain is home to highly unusual plant assemblages that have created one of the most diverse butterfly regions in California. The Hale Ridge Research Natural Area hosts an important stand of knobcone pine. The ecological sky island of the 7,000-foot Snow Mountain serves as important habitat to a number of key plant and animal species.

The headwaters of the Bear Creek Watershed are a particularly excellent example of the area's serpentinite-based endemism and biodiversity with over 450 plant species, including a magnificent array of wildflowers, along with cypress, manzanita, and willow. Nearly half of California's 108 species of dragonfly and damselfly are found here, as well as 16 reptiles and amphibians, 6 rare insects, and 80 species of butterflies. This area has been an important focus of scientific studies on climate change, including studies of range shifts and isolated populations of species during Pleistocene changes in climate, and on post-fire succession.

The Berryessa Snow Mountain area's wide variety of elevations, many streams, ponds, and rivers as well as diverse plant communities provide excellent habitat for fish, wildlife, and amphibians. The streams and creeks in the Berryessa Snow Mountain area have served as centers for scientific research on hydrology and riparian ecosystems for decades. The riparian habitat linking the Sacramento River, Putah Creek, and Cache Creek provides a home for native birds such as the spotted sandpiper and the rare tricolored blackbird.

Waterways in the area harbor several native fish, including Pacific lamprey, western brook lamprey, rainbow trout, California roach, Sacramento pikeminnow, speckled dace, hardhead minnow, Clear Lake hitch, Sacramento sucker, and prickly and riffle sculpins. The area also provides historic habitat for coastal chinook salmon, Northern California steelhead, and California Central Valley steelhead.

Ponds and seeps throughout the area provide rare aquatic habitat for important plants like eelgrass pondweed, few-flowered navarretia, marsh checkerbloom, and Boggs Lake hedge-hyssop. This aquatic habitat is also home to amphibious species like the foothill yellow-legged frog, California red-legged frog, California newt, Pacific tree frog, western toad, and the northwestern pond turtle.

Numerous reptiles live in the Berryessa Snow Mountain area, including the St. Helena mountain king snake, western fence lizard, western skink, western whiptail, alligator lizard, gopher snake, common king snake, rubber boa, common garter snake, western terrestrial garter snake, western aquatic garter snake, and the northern Pacific rattlesnake.

Many large and small mammals co-exist in this diverse landscape, such as Tule elk, bobcats, mountain lions, black bears, mule deer, beaver, river otter, Pacific fishers, American badgers, Humboldt martens, and the San Joaquin pocket mouse. Most of the animal species in the area have special State or Federal status as sensitive, at-risk or threatened.

Raptors such as burrowing owls, prairie falcon, peregrine falcon, northern goshawk, and bald and golden eagles live and hunt throughout the upland areas. The Berryessa Snow Mountain area also serves as an important migratory corridor for neotropical birds and is home to a plethora of bat and insect species, including the threatened valley elderberry longhorn beetle and the vulnerable pallid bat, western sulphur butterfly, gray marble butterfly, Muir's hairstreak, and Lindsay's skipper.

The protection of the Berryessa Snow Mountain area will preserve its prehistoric and historic legacy and maintain its diverse array of scientific resources, ensuring that the prehistoric, historic, and scientific values remain for the benefit of all Americans. Today, the area is important for ranching and also provides outdoor recreation opportunities, including hunting, fishing, hiking, mountain biking, and horseback riding to a burgeoning population center.

WHEREAS, section 320301 of title 54, United States Code (known as the “Antiquities Act”), authorizes the President, in his discretion, to declare by public proclamation historic landmarks, historic and prehistoric structures, and other objects of historic or scientific interest that are situated upon the lands owned or controlled by the Federal Government to be national monuments, and to reserve as a part thereof parcels of land, the limits of which shall be confined to the smallest area compatible with the proper care and management of the objects to be protected;

WHEREAS, it is in the public interest to preserve the objects of scientific and historic interest on the lands of the Berryessa Snow Mountain area;

NOW, THEREFORE, I, BARACK OBAMA, President of the United States of America, by the authority vested in me by section 320301 of title 54, United States Code, hereby proclaim the objects identified above that are situated upon lands and interests in lands owned or controlled by the Federal Government to be the Berryessa Snow Mountain National Monument (monument) and, for the purpose of protecting those objects, reserve as part thereof all lands and interests in lands owned or controlled by the Federal Government within the boundaries described on the accompanying map, which is attached to and forms a part of this proclamation. These reserved Federal lands and interests in lands encompass approximately 330,780 acres. The boundaries described on the accompanying map are confined to the smallest area compatible with the proper care and management of the objects to be protected.

All Federal lands and interests in lands within the boundaries described on the accompanying map are hereby appropriated and withdrawn from all forms of entry, location, selection, sale, or other disposition under the public land laws or laws applicable to the U.S. Forest Service, from location, entry, and patent under the mining laws, and from disposition under all laws relating to mineral and geothermal leasing, other than by exchange that facilitates the remediation, monitoring, or reclamation of historic mining operations under applicable law or otherwise furthers the protective purposes of the monument.

The establishment of the monument is subject to valid existing rights. If the Federal Government acquires any lands or interests in lands not owned or controlled by the Federal Government within the boundaries of the monument, such lands and interests in lands shall be reserved as a part of the monument, and objects identified above that are situated upon those lands and interests in lands shall be part of the monument, upon acquisition of ownership or control by the Federal Government.

The Secretary of Agriculture and the Secretary of the Interior (Secretaries) shall manage the monument through the U.S. Forest Service (USFS) and the Bureau of Land Management (BLM), pursuant to their respective applicable legal authorities, to implement the purposes of this proclamation. The USFS shall manage that portion of the monument within the boundaries of the National Forest System (NFS), and BLM shall manage the remainder of the monument. The lands administered by USFS shall be managed as part of the Mendocino National Forest. The lands administered by BLM shall be managed as a unit of the National Landscape Conservation System, pursuant to applicable legal authorities.

For purposes of protecting and restoring the objects identified above, the Secretaries shall jointly prepare a management plan for the monument and shall promulgate such regulations for its management as deemed appropriate. In developing any management plans and any management rules and regulations governing NFS lands within the monument, the Secretary of Agriculture, through USFS, shall consult with the Secretary of the Interior through BLM. The Secretaries shall provide for public involvement in the development of the management plan including, but not limited to, consultation with tribal, State, and local governments. In the development and implementation of the management plan, the Secretaries shall maximize opportunities, pursuant to applicable legal authorities, for shared resources, operational efficiency, and cooperation.

In managing the monument, the Secretaries may authorize activities or uses related to remediation, monitoring, and reclamation of mining sites and to provide for the beneficial public use of water associated with reclamation of such sites, consistent with the care and management of the objects identified above.

Except for emergency or authorized administrative purposes, motorized and mechanized vehicle use in the monument shall be allowed only on roads and trails designated for such use, consistent with the care and management of the objects identified above.

Nothing in this proclamation shall be deemed to enlarge or diminish the rights of any Indian tribe. The Secretaries shall, to the maximum extent permitted by law and in consultation with Indian tribes, ensure the protection of Indian sacred sites and traditional cultural properties in the monument and provide access by members of Indian tribes for traditional cultural and customary uses, consistent with the American Indian Religious Freedom Act (42 U.S.C. 1996) and Executive Order 13007 of May 24, 1996 (Indian Sacred Sites).

Laws, regulations, and policies followed by USFS or BLM in issuing and administering grazing permits or leases on lands under their jurisdiction shall continue to apply with regard to the lands in the monument, consistent with the care and management of the objects identified above.

Nothing in this proclamation shall be construed to alter the valid existing water rights of any party, including the United States. This proclamation does not reserve water as a matter of Federal law.

Nothing in this proclamation shall preclude low level overflights of military aircraft, the designation of new units of special use airspace, the use or establishment of military flight training routes over the lands reserved by this proclamation, or related military uses, consistent with the care and management of the objects to be protected.

Nothing in this proclamation shall be deemed to enlarge or diminish the jurisdiction of the State of California, including its jurisdiction and authority with respect to fish and wildlife management.

Nothing in this proclamation shall be construed to alter the authority or responsibility of any party with respect to emergency response activities within the monument, including wildland fire response.

Nothing in this proclamation shall be deemed to revoke any existing withdrawal, reservation, or appropriation; however, the monument shall be the dominant reservation.

Warning is hereby given to all unauthorized persons not to appropriate, injure, destroy, or remove any feature of the monument and not to locate or settle upon any of the lands thereof.

IN WITNESS WHEREOF, I have hereunto set my hand this tenth day of July, in the year of our Lord two thousand fifteen, and of the Independence of the United States of America the two hundred and fortieth.

Billing code 3295-F5-P

[FR Doc. 2015-17560

Filed 7-14-15; 11:15 am]

Billing code 4310-10-C